DEPARTMENT OF JUSTICE

Drug Enforcement Administration

[Docket No. DEA-701]

Bulk Manufacturer of Controlled Substances Application: Purisys, LLC

AGENCY: Drug Enforcement Administration, Justice.

ACTION: Notice of application.

SUMMARY: Purisys, LLC applied to be registered as a bulk manufacturer of the following basic class(es) of controlled substances: Lysergic acid diethylamide and Pentobarbital.

DATES: Registered bulk manufacturers of the affected basic class(es), and applicants therefore, may file written comments on or objections to the issuance of the proposed registration on or before October 13, 2020.

ADDRESS: Written comments should be sent to: Drug Enforcement Administration, Attention: DEA Federal Register Representative/DPW, 8701 Morrissette Drive, Springfield, Virginia 22152.

SUPPLEMENTARY INFORMATION: In accordance with 21 CFR 1301.33(a), this is notice that on July 15, 2020, Purisys, LLC, 1550 Olympic Drive, Athens, Georgia 30601-1602, applied to be registered as a bulk manufacturer of the following basic class(es) of controlled substances:

Controlled substance | Drug code | Schedule
Lysergic acid diethylamide | 7315 | I
Pentobarbital | 2270 | II

The company plans to manufacture the above-listed controlled substances as analytical reference standards and clinical trial material for distribution to its customers. No other activities for these drug codes are authorized for this registration.

William T. McDermott,
Assistant Administrator.

[FR Doc. 2020-17438 Filed 8-10-20; 8:45 am]

BILLING CODE P